DEPARTMENT OF COMMERCE

National Oceanic and Atmospheric Administration

RIN 0648-XS35

Marine Mammals; File No. 14450

AGENCY: National Marine Fisheries Service (NMFS), National Oceanic and Atmospheric Administration (NOAA), Commerce.

ACTION: Notice; receipt of application for permit amendment.

SUMMARY: Notice is hereby given that the NMFS Southeast Fisheries Science Center (SEFSC), 75 Virginia Beach Drive, Miami, FL 33149 [Principal Investigator: Dr. Keith Mullin], has applied for an amendment to Scientific Research Permit No. 14450-02.

DATES: Written, telefaxed, or email comments must be received on or before August 10, 2015.

ADDRESSES: The application and related documents are available for review by selecting “Records Open for Public Comment” from the Features box on the Applications and Permits for Protected Species home page, https://apps.nmfs.noaa.gov, and then selecting File No. 14450 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 14450 in the subject line of the email comment.

Those individuals requesting a public hearing should submit a written request to the Chief, Permits and Conservation Division at the address listed above. The request should set forth the specific reasons why a hearing on this application would be appropriate.

FOR FURTHER INFORMATION CONTACT: Jennifer Skidmore or Amy Hapeman, (301) 427-8401.

SUPPLEMENTARY INFORMATION: The subject amendment to Permit No. 14450-02 is requested under the authority of the Marine Mammal Protection Act of 1972, as amended (16 U.S.C. 1361 et seq.), and the regulations governing the taking and importing of marine mammals (50 CFR part 216).

Permit No. 14450-02, last amended on December 31, 2014, authorizes the SEFSC to take all cetacean species that occur in U.S. and international waters of the Atlantic Ocean, Gulf of Mexico and Caribbean Sea. Activities include aerial and vessel-based line-transect sampling, acoustic sampling, behavioral observations, vessel-based photo-identification, and biopsy sampling. Satellite tagging of ESA-listed large whales is also authorized. Tissue samples collected in other countries may be imported into the U.S. The permit expires on February 28, 2019.

The SEFSC is requesting the permit be amended to authorize satellite tagging of non-ESA listed cetaceans during authorized vessel surveys to support NMFS stock assessments as follows: 40 Bryde's whales (Balaenoptera edeni), 40 of each species of short-finned (Globicephala macrorhynchus) and long-finned (Globicephala melas) pilot whales, and 20 individuals each of the 21 other authorized non-listed cetacean species, annually. Tags would be either suction cup attachments, fully implantable or minimally invasive dart attachments. A maximum of 2 tags could be placed on an animal at one time. Adults of both sexes without calves would be tagged. In addition, the SEFSC is requesting authorization to import and export marine mammals samples from sources (other than currently authorized biopsy sampling) to support the NMFS research on these species.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the amendment requests to the Marine Mammal Commission and its Committee of Scientific Advisors.

Dated: June 30, 2015.
Julia Harrison,
Chief, Permits and Conservation Division, Office of Protected Resources, National Marine Fisheries Service.

[FR Doc. 2015-16779 Filed 7-8-15; 8:45 am]

BILLING CODE 3510-22-P